LEGAL SERVICES CORPORATION

Sunshine Act Meeting of the Board of Directors Finance Committee

Time and Date: The Finance Committee of the Legal Services Corporation Board of Directors will meet on January 19, 2002 The meeting will begin at 9 a.m. and continue until the Committee concludes its agenda.

Location: Hilton Alexandria Mark Center, 5000 Seminary Road, Alexandria, Virginia.

Status of Meeting: Open.

Matters To Be Considered

1. Approval of agenda.

2. Approval of the minutes of the Committee's meeting of September 8, 2001.

3. Office of Inspector General's presentation of the Corporation's FY '01 annual audit.

4. Review and adoption of FY '02 operating budget for the Corporation.

5. Review of expenses through November 30, 2001.

6. Consider and act on conforming amendments to LSC's 403(b) plan.

7. Consider and act on other business.

8. Public comment.

Contact Person for Information: Victor M. Fortuno, Vice President for Legal Affairs, General Counsel, & Corporate Secretary, at (202) 336-8800.

Special Needs: Upon request, meeting notices will be made available in alternate formats to accommodate visual and hearing impairments. Individuals who have a disability and need an accommodation to attend the meeting may notify Elizabeth S. Cushing, at (202) 336-8800.

Dated: January 11, 2002.
Victor M. Fortuno,
Vice President for Legal Affairs, General Counsel, & Corporate Secretary.

[FR Doc. 02-1180 Filed 1-11-02; 3:53 pm]

BILLING CODE 7050-01-P